SMALL BUSINESS ADMINISTRATION

Audit and Financial Management Advisory Committee

AGENCY: Small Business Administration.

ACTION: Notice of renewal of Audit and Financial Management Advisory Committee.

SUMMARY: Pursuant to the Federal Advisory Committee Act and its implementing regulations, SBA is issuing this notice to announce the renewal of its Audit and Financial Management Advisory Committee. This advisory committee is being renewed to provide advice and recommendations to SBA on government accounting and performance issues impacting the agency.

FOR FURTHER INFORMATION CONTACT: Questions about the Audit and Financial Management Advisory Committee may be directed to Andrienne Johnson, Office of the Administrator, U.S. Small Business Administration, 409 Third Street SW, Washington, DC 20416; Andrienne.Johnson@sba.gov; 202-205-6605.

SUPPLEMENTARY INFORMATION: Pursuant to its authority in section 8(b)(13) of the Small Business Act, (15 U.S.C. 637), SBA is renewing the Audit and Financial Management Advisory Committee. This discretionary committee is being renewed in accordance with the provision of the Federal Advisory Committee Act, as amended (5 U.S.C. App.)

The AFMAC is tasked with providing recommendations and advice regarding the Agency's financial management, including the financial reporting process, systems of internal controls, audit process and process for monitoring compliance with relevant law and regulations.

Dated: February 3, 2022.
Andrienne Johnson,
SBA Committee Management Officer.

[FR Doc. 2022-02627 Filed 2-7-22; 8:45 am]

BILLING CODE P